DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation (Acting), Department of Homeland Security, Federal Emergency Management Agency.

State and county | Location and case No. | Chief executive officer of community | Community map repository | Date of modification | Community No.
Arizona: |  |  |  |  |
Maricopa (FEMA Docket No.: B-1801) | City of Buckeye, (17-09-1137P) | The Honorable Jackie A. Meck, Mayor, City of Buckeye, 530 East Monroe Avenue, Buckeye, AZ 85326 | Engineering Department, 530 East Monroe Avenue, Buckeye, AZ 85326 | Apr. 20, 2018 | 040039
Maricopa (FEMA Docket No.: B-1801) | City of Peoria, (17-09-2535P) | The Honorable Cathy Carlat, Mayor, City of Peoria, 8401 West Monroe Street, Peoria, AZ 85345 | City Hall, 8401 West Monroe Street, Peoria, AZ 85345 | Mar. 30, 2018 | 040050
Maricopa (FEMA Docket No.: B-1768) | Unincorporated Areas of Maricopa County, (17-09-1905P) | The Honorable Denny Barney, Chairman, Board of Supervisors, Maricopa County, 301 West Jefferson Street, 10th Floor, Phoenix, AZ 85003 | Flood Control District of Maricopa County, 2801 West Durango Street, Phoenix, AZ 85009 | Mar. 2, 2018 | 040037
Maricopa (FEMA Docket No.: B-1801) | Unincorporated Areas of Maricopa County, (17-09-2169P) | The Honorable Denny Barney, Chairman, Board of Supervisors, Maricopa County, 301 West Jefferson Street, 10th Floor, Phoenix, AZ 85003 | Flood Control District of Maricopa County, 2801 West Durango Street, Phoenix, AZ 85009 | Apr. 20, 2018 | 040037
Mohave (FEMA Docket No.: B-1801) | City of Kingman, (16-09-2824P) | The Honorable Monica Gates, Mayor, City of Kingman, 310 North 4th Street, Kingman, AZ 86401 | City Hall, 310 North 4th Street, Kingman, AZ 86401 | Apr. 2, 2018 | 040060
Pima (FEMA Docket No.: B-1772) | City of Tucson, (17-09-0333P) | The Honorable Jonathan Rothschild, Mayor, City of Tucson, 255 West Alameda Street, 10th Floor, Tucson, AZ 85701 | Planning and Development Services, 201 North Stone Avenue, 1st Floor, Tucson, AZ 85701 | Mar. 26, 2018 | 040076
Pima (FEMA Docket No.: B-1772) | Unincorporated Areas of Pima County, (17-09-0333P) | The Honorable Sharon Bronson, Chair, Board of Supervisors, Pima County, 130 West Congress Street, 11th Floor, Tucson, AZ 85701 | Pima County Flood Control District, 201 North Stone Avenue, 9th Floor, Tucson, AZ 85701 | Mar. 26, 2018 | 040073
Yavapai (FEMA Docket No.: B-1801) | City of Prescott, (17-09-2254P) | The Honorable Greg Mengarelli, Mayor, City of Prescott, 201 South Cortez Street, Prescott, AZ 86303 | Public Works Department, 201 South Cortez Street, Prescott, AZ 86303 | Apr. 20, 2018 | 040098
Yavapai (FEMA Docket No.: B-1801) | City of Prescott, (17-09-2793P) | The Honorable Greg Mengarelli, Mayor, City of Prescott, 201 South Cortez Street, Prescott, AZ 86303 | Public Works Department, 201 South Cortez Street, Prescott, AZ 86303 | Apr. 2, 2018 | 040098
California: |  |  |  |  |
Fresno (FEMA Docket No.: B-1768) | City of Clovis (16-09-2874P) | The Honorable Bob Whalen, Mayor, City of Clovis, 1033 5th Street, Clovis, CA 93612 | Planning and Development, 1033 5th Street, Clovis, CA 93612 | Mar. 12, 2018 | 060044
Riverside (FEMA Docket No.: B-1772) | City of Banning (16-09-1555P) | The Honorable George Moyer, Mayor, City of Banning, 99 East Ramsey Street, Banning, CA 92220 | Public Works Department, 99 East Ramsey Street, Banning, CA 92220 | Mar. 22, 2018 | 060246
Riverside (FEMA Docket No.: B-1772) | City of Menifee (17-09-1814P) | The Honorable Neil R. Winter, Mayor, City of Menifee, 29714 Haun Road, Menifee, CA 92586 | Public Works and Engineering Departments, 29714 Haun Road, Menifee, CA 92586 | Mar. 19, 2018 | 060176
Riverside (FEMA Docket No.: B-1772) | City of Perris (17-09-1814P) | The Honorable Michael M. Vargas, Mayor, City of Perris, 101 North D Street, Perris, CA 92570 | Engineering Department, 170 Wilkerson Avenue, Perris, CA 92570 | Mar. 19, 2018 | 060258
Riverside (FEMA Docket No.: B-1772) | Unincorporated Areas of Riverside County (17-09-1800P) | The Honorable John F. Tavaglione, Chairman, Board of Supervisors, Riverside County, 4080 Lemon Street, 5th Floor, Riverside, CA 92501 | Riverside County Flood Control and Water Conservation District, 1995 Market Street, Riverside, CA 92501 | Mar. 15, 2018 | 060245
Riverside (FEMA Docket No.: B-1772) | Unincorporated Areas of Riverside County (17-09-1814P) | The Honorable John F. Tavaglione, Chairman, Board of Supervisors, Riverside County, 4080 Lemon Street, 5th Floor, Riverside, CA 92501 | Riverside County Flood Control and Water Conservation District, 1995 Market Street, Riverside, CA 92501 | Mar. 19, 2018 | 060245
San Diego (FEMA Docket No.: B-1772) | City of Carlsbad (17-09-0723P) | The Honorable Matt Hall, Mayor, City of Carlsbad, 1200 Carlsbad Village Drive, Carlsbad, CA 92008 | City Hall, 1200 Carlsbad Village Drive, Carlsbad, CA 92008 | Mar. 19, 2018 | 060285
San Diego (FEMA Docket No.: B-1768) | City of Carlsbad (17-09-2475P) | The Honorable Matt Hall, Mayor, City of Carlsbad, 1200 Carlsbad Village Drive, Carlsbad, CA 92008 | City Hall, 1200 Carlsbad Village Drive, Carlsbad, CA 92008 | Mar. 12, 2018 | 060285
San Diego (FEMA Docket No.: B-1772) | City of Oceanside (17-09-0723P) | The Honorable Jim Wood, Mayor, City of Oceanside, 300 North Coast Highway, Oceanside, CA 92054 | City Hall, 300 North Coast Highway, Oceanside, CA 92054 | Mar. 19, 2018 | 060294
San Diego (FEMA Docket No.: B-1772) | City of San Diego (17-09-1759P) | The Honorable Kevin L. Faulconer, Mayor, City of San Diego, 202 C Street, 11th Floor, San Diego, CA 92101 | Development Services Department, 1222 1st Avenue, 3rd Floor, MS 301, San Diego, CA 92101 | Mar. 26, 2018 | 060295
Florida: |  |  |  |  |
Bay (FEMA Docket No.: B-1801) | City of Panama City Beach (17-04-6419P) | Mr. Mario Gisbert, City Manager, City of Panama City Beach, 110 South Arnold Road, Panama City Beach, FL 32413 | City Hall, 110 South Arnold Road, Panama City Beach, FL 32413 | Mar. 29, 2018 | 120013
Duval (FEMA Docket No.: B-1772) | City of Jacksonville (17-04-5002P) | The Honorable Lenny Curry, Mayor, City of Jacksonville, 117 West Duval Street, Suite 400, Jacksonville, FL 32202 | City Hall, 117 West Duval Street, Jacksonville, FL 32202 | Mar. 1, 2018 | 120077
St. Johns (FEMA Docket No.: B-1772) | Unincorporated Areas of St. Johns County (17-04-5830P) | The Honorable James K. Johns, Chairman, St. Johns County Board of Commissioners, 500 San Sebastian View, St. Augustine, FL 32084 | St. Johns County Permit Center, 4040 Lewis Speedway, St. Augustine, FL 32084 | Mar. 14, 2018 | 125147
St. Johns (FEMA Docket No.: B-1772) | Unincorporated Areas of St. Johns County (17-04-5919P) | The Honorable James K. Johns, Chairman, St. Johns County Board of Commissioners, 500 San Sebastian View, St. Augustine, FL 32084 | St. Johns County Permit Center, 4040 Lewis Speedway, St. Augustine, FL 32084 | Mar. 15, 2018 | 125147
St. Johns (FEMA Docket No.: B-1768) | Unincorporated Areas of St. Johns County (17-04-6598P) | The Honorable James K. Johns, Chairman, St. Johns County Board of Commissioners, 500 San Sebastian View, St. Augustine, FL 32084 | St. Johns County Permit Center, 4040 Lewis Speedway, St. Augustine, FL 32084 | Mar. 2, 2018 | 125147
St. Johns (FEMA Docket No.: B-1772) | Unincorporated Areas of St. Johns County (17-04-6842P) | The Honorable James K. Johns, Chairman, St. Johns County Board of Commissioners, 500 San Sebastian View, St. Augustine, FL 32084 | St. Johns County Permit Center, 4040 Lewis Speedway, St. Augustine, FL 32084 | Mar. 15, 2018 | 125147
Hawaii: Maui (FEMA Docket No.: B-1768) | Maui County (16-09-2407P) | The Honorable Alan M. Arakawa, Mayor, Maui County, 200 South High Street, Kalana O Maui Building 9th Floor, Wailuku, HI 96793 | County of Maui Planning Department, 200 Main Street, Suite 315, Wailuku, HI 96793 | Mar. 5, 2018 | 150003
Idaho: |  |  |  |  |
Ada (FEMA Docket No.: B-1801) | City of Boise, (17-10-0818P) | The Honorable David Bieter, Mayor, City of Boise, City Hall, 150 North Capitol Boulevard, Boise, ID 83702 | Planning and Development Services, City Hall, 150 North Capitol Boulevard, Boise, ID 83702 | Apr. 6, 2018 | 160002
Bonneville (FEMA Docket No.: B-1801) | City of Swan Valley (17-10-1626P) | The Honorable Janice Duncan, Mayor, City of Swan Valley, P.O. Box 105, Swan Valley, ID 83449 | City Building, 15 Highway 31, Swan Valley, ID 83449 | Mar. 13, 2018 | 160154
Bonneville (FEMA Docket No.: B-1801) | Unincorporated Areas of Bonneville County (17-10-1626P) | Mr. Roger Christensen, Chairman, Bonneville County Commissioner, 605 North Capital Avenue, Idaho Falls, ID 83402 | Bonneville County Courthouse, 605 North Capital Avenue, Idaho Falls, ID 83402 | Mar. 13, 2018 | 160027
Illinois: Will (FEMA Docket No.: B-1772) | City of Crest Hill (17-05-5208P) | The Honorable Ray Soliman, Mayor, City of Crest Hill, 1610 Plainfield Road, Crest Hill, IL 60403 | City Hall, 1610 Plainfield Road, Crest Hill, IL 60403 | Mar. 16, 2018 | 170699
Kansas: |  |  |  |  |
Johnson (FEMA Docket No.: B-1801) | City of Olathe (17-07-1722P) | The Honorable Michael Copeland, Mayor, City of Olathe, P.O. Box 768, Olathe, KS 66051 | City Hall, Olathe Planning Office, 100 West Santa Fe Drive, Olathe, KS 66061 | Apr. 12, 2018 | 200173
Seward (FEMA Docket No.: B-1801) | City of Liberal (17-07-1561P) | The Honorable Joe Denoyer, Mayor, City of Liberal, City Hall, 324 North Kansas Avenue, Liberal, KS 67905 | City Hall, 324 North Kansas Avenue, Liberal, KS 67905 | Apr. 13, 2018 | 200330
Minnesota: |  |  |  |  |
Dakota (FEMA Docket No.: B-1801) | City of Burnsville (17-05-5338P) | The Honorable Elizabeth Kautz, Mayor, City of Burnsville, 100 Civic Center Parkway, Burnsville, MN 55337 | City Hall, 100 Civic Center Parkway, Burnsville, MN 55337 | Apr. 9, 2018 | 270102
Scott (FEMA Docket No.: B-1801) | City of Savage (17-05-5338P) | The Honorable Janet Williams, Mayor, City of Savage, City Hall, 6000 McColl Drive, Savage, MN 55378 | City Hall, 6000 McColl Drive, Savage, MN 55378 | Apr. 9, 2018 | 270433
Missouri: |  |  |  |  |
McDonald (FEMA Docket No.: B-1772) | Unincorporated Areas of McDonald County (17-07-2074P) | Mr. Keith Lindquist, McDonald County Commissioner, 602 Main Street, Pineville, MO 64856 | McDonald County Courthouse, 602 Main Street, Pineville, MO 64854 | Mar. 16, 2018 | 290817
New Madrid (FEMA Docket No.: B-1801) | Unincorporated Areas of New Madrid County (17-07-1570P) | Mr. Mark Baker, New Madrid County Commissioner, P.O. Box 68, New Madrid, MO 63869 | New Madrid County, Courthouse Square, 450 Main Street, New Madrid, MO 63869 | Apr. 20, 2018 | 290849
Nevada: |  |  |  |  |
Clark (FEMA Docket No.: B-1801) | City of Henderson (17-09-0674P) | The Honorable Debra March, Mayor, City of Henderson, 240 South Water Street, Henderson, NV 89015 | Public Works Department, 240 South Water Street, Henderson, NV 89015 | Mar. 27, 2018 | 320005
Clark (FEMA Docket No.: B-1772) | City of Henderson (17-09-2174P) | The Honorable Debra March, Mayor, City of Henderson, 240 South Water Street, Henderson, NV 89015 | City Hall, 240 South Water Street, Henderson, NV 89015 | Mar. 15, 2018 | 320005
Clark (FEMA Docket No.: B-1801) | Unincorporated Areas of Clark County (17-09-0674P) | The Honorable Steve Sisolak, Chairman, Board of Supervisors, Clark County, 500 South Grand Central Parkway, 6th Floor, Las Vegas, NV 89106 | Clark County, Office of the Director of Public Works, 500 South Grand Central Parkway, Las Vegas, NV 89155 | Mar. 27, 2018 | 320003
Clark (FEMA Docket No.: B-1801) | Unincorporated Areas of Clark County (17-09-2785P) | The Honorable Steve Sisolak, Chairman, Board of Supervisors, Clark County, 500 South Grand Central Parkway, 6th Floor, Las Vegas, NV 89106 | Clark County, Office of the Director of Public Works, 500 South Grand Central Parkway, Las Vegas, NV 89155 | Apr. 9, 2018 | 320003
New York: |  |  |  |  |
Onondaga (FEMA Docket No.: B-1765) | Town of Marcellus (17-02-1132P) | Ms. Karen Pollard, Town Supervisor, Town of Marcellus, 24 East Main Street, Marcellus, NY 13108 | Town Hall, 24 East Main Street, Marcellus, NY 13108 | Mar. 20, 2018 | 360585
Onondaga (FEMA Docket No.: B-1765) | Village of Marcellus (17-02-1132P) | The Honorable John P. Curtin, Mayor, Village of Marcellus, 6 Slocombe Avenue, Marcellus, NY 13108 | Village Hall, 6 Slocombe Avenue, Marcellus, NY 13108 | Mar. 20, 2018 | 360586
Queens (FEMA Docket No.: B-1768) | City of New York (17-02-1503P) | The Honorable Bill de Blasio, Mayor, City of New York, City Hall, New York, NY 10007 | New York City Department of Planning, Waterfront Division, 22 Reade Street, New York, NY 10007 | Apr. 18, 2018 | 360497
Oregon: |  |  |  |  |
Benton (FEMA Docket No.: B-1801) | City of Philomath, (17-10-1546P) | The Honorable Rocky Sloan, Mayor, City of Philomath, 980 Applegate Street, Philomath, OR 97370 | City Hall, 980 Applegate Street, Philomath, OR 97370 | Mar. 29, 2018 | 410011
Benton (FEMA Docket No.: B-1801) | Unincorporated Areas of Benton County (17-10-1546P) | Ms. Annabelle Jaramillo, Chair, Benton County Board of Commissioners, 205 Northwest 5th Street, Corvallis, OR 97339 | Benton County Sherriff's Office, 180 Northwest 5th Street, Corvallis, OR 97333 | Mar. 29, 2018 | 410008
Marion (FEMA Docket No.: B-1805) | City of Salem (17-10-1368P) | The Honorable M. Chuck Bennett, Mayor, City of Salem, 555 Liberty Street Southeast, Room 220, Salem, OR 97301 | Public Works Department, 555 Liberty Street Southeast, Room 325, Salem, OR 97301 | Mar. 29, 2018 | 410167
Texas: Dallas (FEMA Docket No.: B-1772) | City of Mesquite (17-06-3127P) | The Honorable John Monaco, Mayor, City of Mesquite, 757 North Galloway Avenue, Mesquite, TX 75149 | City Engineering Services, 1515 North Galloway Avenue, Mesquite, TX 75185 | Mar. 27, 2018 | 485490
Washington: King (FEMA Docket No.: B-1801) | City of North Bend (17-10-1428P) | The Honorable Kenneth G. Hearing, Mayor, City of North Bend, 211 Main Avenue North, North Bend, WA 98045 | Planning Department, 126 East 4th Street, North Bend, WA 98045 | Apr. 13, 2018 | 530085
Wisconsin: Brown (FEMA Docket No.: B-1801) | Unincorporated Areas of Brown County (17-05-5248P) | Mr. Patrick Moynihan, Jr., Chair, Brown County, 305 East Walnut Street, Green Bay, WI 54301 | Brown County Zoning Office, 305 East Walnut Street, Green Bay, WI 54301 | Apr. 4, 2018 | 550020

[FR Doc. 2018-12102 Filed 6-5-18; 8:45 am]

BILLING CODE 9110-12-P